DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 75 FR 62559-62560, dated October 12, 2010) is amended to reflect the reorganization of the Agency for Toxic Substances and Disease Registry.

Section J-B, Organization and Functions, is hereby amended as follows:

Delete in its entirety item (10) of the functional statement for the Office of the Director (JAA), Agency for Toxic Substances and Disease Registry (J).

Dated: November 5, 2010.
William P. Nichols,
Chief Operating Officer, Centers for Disease Control and Prevention.

[FR Doc. 2010-28949 Filed 11-16-10; 8:45 am]

BILLING CODE 4160-70-M